DEPARTMENT OF ENERGY

Federal Energy Regulatory Commission

Combined Notice of Filings #1

August 1, 2006

Take notice that the Commission received the following electric corporate filings:

Docket Numbers: EC06-144-000.

Applicants: Morgan Stanley & Company, Incorporated; EBG Holdings, LLC; Mystic I, LLC; Mystic Development, LLC; Fore River Development, LLC.

Description: Application for order granting blanket authorizations for certain future acquisitions and transfers of equity interests under Section 203 of the Federal power Act and request for waivers etc re EBG Holdings, LLC.

Filed Date: 07/27/2006.

Accession Number: 20060728-0209.

Comment Date: 5 pm Eastern Time on Thursday, August 17, 2006.

Take notice that the Commission received the following electric rate filings

Docket Numbers: ER97-4345-020; ER98-511-008.

Applicants: OGE Energy Resources Inc.; Oklahoma Gas and Electric Company.

Description: Oklahoma Gas and Electric Co et al submit revised versions of their respective market-based rate tariffs designated as Original Sheet 1 et al, FERC Electric Tariff, Fifth Revised Volume 3 et al, pursuant to the Commission's 3/20/06 Order.

Filed Date: 07/25/2006.

Accession Number: 20060727-0036.

Comment Date: 5 pm Eastern Time on Tuesday, August 15, 2006.

Docket Numbers: ER03-478-012; ER03-951-009; ER03-416-010; ER04-94-007; ER03-296-009; ER05-534-007; ER05-365-007; ER01-3121-008; ER02-418-007; ER05-332-007; ER06-1-005; ER02-417-007; ER05-1146-007; ER06-200-006; ER05-481-007; ER03-1326-005; ER05-1262-004.

Applicants: PPM Energy Inc.; Moraine Wind LLC; Klondike Wind Power LLC; Mountain View Power Partners III, LLC; Flying Cloud Power Partners, LLC; Eastern Desert Power LLC; Elk River Windfarm LLC; Klamath Energy LLC; Klamath Generation LLC; Klondike Wind Power II LLC; Leaning Juniper Wind Power LLC; Phoenix Wind Power LLC; Shiloh I Wind Project, LLC; Big Horn Wind Project LLC; Trimont Wind I LLC; Colorado Green Holdings LLC; Flat Rock Windpower LLC.

Description: PPM Energy, Inc et al submit a Notice of Change in Status, to advise FERC that PPM Energy has entered into a Scheduling and Asset Optimization Services Agreement with MMC Energy North America, LLC et al.

Filed Date: 07/07/2006.

Accession Number: 20060711-0102.

Comment Date: 5 pm Eastern Time on Friday, August 10, 2006.

Docket Numbers: ER06-586-003.

Applicants: Southern Minnesota Municipal Power Agency

Description: Southern Minnesota Municipal Power Agency submits updated wages and salaries allocation factor for use in Midwest ISO Attachment O Rate Template.

Filed Date: 07/25/2006.

Accession Number: 20060731-0167.

Comment Date: 5 pm Eastern Time on Tuesday, August 15, 2006.

Docket Numbers: ER06-1239-001.

Applicants: Moguai Energy LLC.

Description: Moguai Energy LLC submits an amended version of its Original Sheet 1, Electric Rate Schedule FERC No 1.

Filed Date: 07/27/2006.

Accession Number: 20060728-0208.

Comment Date: 5 pm Eastern Time on Thursday, August 17, 2006.

Docket Numbers: ER06-1283-000.

Applicants: CalPeak Power-Midway LLC.

Description: CalPeak Power-Midway, LLC submits a Notice of Cancellation of their Electric Tariff, Original Volume No 1.

Filed Date: 07/26/2006.

Accession Number: 20060728-0206.

Comment Date: 5 pm Eastern Time on Wednesday, August 16, 2006.

Docket Numbers: ER06-1284-000.

Applicants: Georgia Power Company.

Description: Georgia Power Co submits an executed amendment to its Second Revised and Restated Interconnection Agreement with Live Oaks Co, LLC, effective as of 9/25/03.

Filed Date: 07/27/2006.

Accession Number: 20060731-0166.

Comment Date: 5 pm Eastern Time on Thursday, August 17, 2006.

Docket Numbers: ER06-1285-000.

Applicants: Morgan Stanley Capital Group, Inc.

Description: Morgan Stanley Capital Group, Inc submits its amendment no. 1 to the Scheduling Services Agreement with Deseret Generation & Transmission Co-operative, Inc.

Filed Date: 07/27/2006.

Accession Number: 20060731-0165.

Comment Date: 5 pm Eastern Time on Thursday, August 17, 2006.

Docket Numbers: ER06-1286-000.

Applicants: New Hope Power Partnership.

Description: New Hope Power Partnership submits its application for market-based rate authorization and request for waivers and blanket authorizations.

Filed Date: 07/27/2006.

Accession Number: 20060731-0171.

Comment Date: 5 pm Eastern Time on Thursday, August 17, 2006.

Docket Numbers: ER06-1287-000; ER06-896-001.

Applicants: Puget Sound Energy, Inc.

Description: Puget Sound Energy Inc submits its Power Contract—Rock Island Joint System, with PUD No. 1 of Chelan County designated as 1st Rev Sheets 62 , 73, and 75, effective 5/1/06.

Filed Date: 07/26/2006.

Accession Number: 20060731-0175.

Comment Date: 5 pm Eastern Time on Wednesday, August 16, 2006.

Docket Numbers: ER06-1288-000.

Applicants: Cleco Power LLC.

Description: Cleco Power LLC submits a restated Standard Form of Network Operating Agreement included as Attachment G to its Open Access Transmission Tariff.

Filed Date: 07/27/2006.

Accession Number: 20060731-0184.

Comment Date: 5 pm Eastern Time on Thursday, August 17, 2006.

Docket Numbers: ER06-1289-000.

Applicants: Cleco Power LLC.

Description: Cleco Power LLC submits revisions to the Standard Form of Network Integration Transmission Service Agreement, First Revised Sheet 76-78, Electric Tariff, Second Revised Volume No. 1.

Filed Date: 07/27/2006.

Accession Number: 20060731-0181.

Comment Date: 5 pm Eastern Time on Thursday, August 17, 2006.

Docket Numbers: ER06-1290-000.

Applicants: PJM Interconnection, LLC.

Description: PJM Interconnection, LLC submits an executed construction service agreement with Lancaster Wind Farm, LLC.

Filed Date: 07/27/2006.

Accession Number: 20060731-0179.

Comment Date: 5 pm Eastern Time on Thursday, August 17, 2006.

Docket Numbers: ER06-1291-000.

Applicants: Mt. Tom Generating Company LLC.

Description: Mt Tom Generating Co. LLC for order accepting initial tariff, waiving regulations, and granting blanket approvals, Electric Tariff, Original Volume No. 1, effective 9/25/06.

Filed Date: 07/27/2006.

Accession Number: 20060731-0170.

Comment Date: 5 pm Eastern Time on Thursday, August 17, 2006.

Docket Numbers: ER06-1292-000.

Applicants: Avista Corporation.

Description: Avista Corp. submits its Electric Tariff Sixth Revised Volume No. 9.

Filed Date: 07/27/2006.

Accession Number: 20060731-0169.

Comment Date: 5 pm Eastern Time on Thursday, August 17, 2006.

Take notice that the Commission received the following electric securities filings:

Docket Numbers: ES06-56-000.

Applicants: Northwestern Corporation.

Description: Northwestern Corporation submits an application for authorization to issue securities.

Filed Date: 07/19/2006.

Accession Number: 20060720-0083.

Comment Date: 5 pm Eastern Time on Wednesday, August 9, 2006.

Docket Numbers: ES06-57-000.

Applicants: AEP Texas Central Company.

Description: AEP Texas Central Company submits an application under Section 204 of the Federal Power Act for authorization to issue securities.

Filed Date: 07/28/2006.

Accession Number: 20060728-5037.

Comment Date: 5 pm Eastern Time on Friday, August 18, 2006.

Any person desiring to intervene or to protest in any of the above proceedings must file in accordance with Rules 211 and 214 of the Commission's Rules of Practice and Procedure (18 CFR 385.211 and § 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E6-13039 Filed 8-9-06; 8:45 am]

BILLING CODE 6717-01-P